DEPARTMENT OF THE TREASURY

United States Mint

Notification of Citizens Coinage Advisory Committee Public Meeting—February 18, 2025

ACTION: Notice of meeting.

Pursuant to United States Code, title 31, section 5135(b)(8)(C), the United States Mint announces the Citizens Coinage Advisory Committee (CCAC) public meeting scheduled for February 18, 2025.

Date: February 18, 2025.

Time: 11 a.m.-4:45 p.m. (eastern time).

Location: Remote via Video-conference.

Subject: Review and discussion of the candidate designs for the 2026 American Innovation $1 Coin Program: California, Wisconsin, Minnesota, and Iowa; review and discussion of the candidate designs for the 2027-2028 Platinum Proof Coins; review and discussion of the candidate designs for the 2025 Sacagawea 25th Anniversary Coins; and discussion of potential concepts/themes for a future Native American $1 Coin Program.

Interested members of the public may watch the meeting via live stream on the United States Mint's YouTube Channel at https://www.youtube.com/user/usmint. To watch the meeting live, members of the public may click on the “February 18, 2025” icons under the Live Tab on the specific day.

The public should call the CCAC HOTLINE at (202) 354-7502 for the latest updates on meeting time and access information.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended.

For members of the public interested in watching on-line, this is a reminder that the remote access is for observation purposes only. Members of the public may submit matters for the CCAC's consideration by email to info@ccac.gov.

For Accommodation Request: If you require an accommodation to watch the CCAC meeting, please contact the Office of Equal Employment Opportunity by February 13, 2025. You may submit an email request to Reasonable. Accommodations@usmint.treas.gov or call 202-354-7260 or 1-888-646-8369 (TTY).

FOR FURTHER INFORMATION CONTACT: Jennifer Warren, United States Mint Liaison to the CCAC, 801 9th Street NW, Washington, DC 20220; or call 202-354-7208.

(Authority: 31 U.S.C. 5135(b)(8)(C))

Eric Anderson,
Executive Secretary, United States Mint.

[FR Doc. 2025-01749 Filed 1-24-25; 8:45 am]

BILLING CODE 4810-37-P